DEPARTMENT OF TRANSPORTATION

Federal Highway Administration

Environmental Impact Statement; Mobile and Baldwin Counties, Alabama

AGENCY: Federal Highway Administration (FHWA), DOT.

ACTION: Notice of Intent to prepare a Supplemental Draft Environmental Impact Statement.

SUMMARY: The FHWA in cooperation with the Alabama Department of Transportation (ALDOT), will prepare a limited scope Supplemental Draft Environmental Impact Statement (SDEIS) for the I-10 Mobile River Bridge and Bayway Widening project in Mobile and Baldwin Counties, Alabama. The Draft Environmental Impact Statement (DEIS) was approved by FHWA on July 22, 2014. The purpose of the SDEIS is to evaluate new information regarding environmental impacts and changes in project conditions that have occurred since the July 2014 DEIS.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the ALDOT, will prepare a limited scope SDEIS in accordance with 23 CFR 771.130(f) and 40 CFR 1502.9 for the proposed project which includes increasing the capacity of Interstate Route 10 (I-10) by constructing a new bridge across the Mobile River and increasing the capacity of I-10 across Mobile Bay from four to eight lanes. The DEIS for the project was approved on July 22, 2014 (FHWA-AL-EIS-14-01-D). The DEIS evaluated a wide range of alternatives, including the No Build Alternative and four Build Alternatives. Alternative B was identified as the Preferred Alternative. Public Hearings were held on September 23 and September 29, 2014, following approval of the DEIS.

The purpose of the SDEIS is to identify changes, new information, and activities that have occurred in the project since the July 2014 DEIS. Based on coordination between FHWA and ALDOT, the issues to be addressed in the SDEIS will include, but are not limited to: Refinements in Alternative B', storm surge analysis, tolling as a funding mechanism, Section 4(f) Evaluation, Section 106 consultation, bicycle/pedestrian facilities, threatened and endangered species, ecological resources, hazardous materials, cultural resources surveys, and agency coordination and public outreach activities. The SDEIS will review information from the original DEIS, incorporate new information into the SDEIS, and update the impacts and analyses where changes have occurred since the DEIS was approved. The DEIS is available at: www.mobileriverbridge.com.

The SDEIS will follow the same process and format as the original DEIS, except that scoping is not required. Following approval of the SDEIS, FHWA plans to issue a combined Final Environmental Impact Statement (FEIS)/Record of Decision (ROD).

Public involvement is a critical component of the National Environmental Policy Act (NEPA) project development process and will occur throughout the development of the environmental documents. Environmental documents will be made available for review by resources agencies and the public. Notification of the availability of the SDEIS for public and agency review will be made in the Federal Register, the project's Web site (www.mobileriverbridge.com), and through other methods to be jointly determined by FHWA and ALDOT. Those methods will identify where interested parties can go to review a copy of the SDEIS. The agency and public comment period on the SDEIS will end no sooner than 45 days after the Notice of Availability is published in the Federal Register.

Public Hearing(s) will be held following the availability of the SDEIS and as necessary. The Public Hearing(s) will be held in accessible locations and at convenient times. The Public Hearing(s) will be conducted by ALDOT and announced a minimum of 30 days in advance of the hearings. Individuals will be provided the opportunity to offer official comments by publicly expressing their views to representatives of ALDOT and others in attendance, privately to a court reporter, or by submitting written comments. The ALDOT will provide FHWA with a transcript of the Public Hearing(s) and copies of submitted written comments.

The SDEIS will comply with other Federal and State requirements including the State Water Quality Certification under Section 401 of the Clean Water Act; protection of water quality under the National Pollutant Discharge Elimination System; protection of threatened and endangered species under Section 7 of the Endangered Species Act; and protection of cultural resources under Section 106 of the National Historic Preservation Act.

To ensure that a full range of issues related to this proposed action are addressed and all significant issues are identified, comments and suggestions are invited from interested parties. Comments or questions concerning this proposed action and the SDEIS should be directed to the FHWA representative at the address above.

Authority: 23 U.S.C. 315; 23 CFR 771.

(Catalog of Federal Domestic Assistance Program Number 20.205, Highway Planning and Construction. The regulations implementing Executive Order 12372 regarding intergovernmental consultation on Federal programs and activities apply to this program.)

Issued on: May 30, 2017.
Mark D. Bartlett,
Division Administrator, Federal Highway Administration, Montgomery, Alabama.

[FR Doc. 2017-11543 Filed 6-2-17; 8:45 am]

BILLING CODE 4910-22-P